DEPARTMENT OF COMMERCE

International Trade Administration

Meeting of the Manufacturing Council

AGENCY: International Trade Administration, U.S. Department of Commerce.

ACTION: Notice of an Open Meeting.

SUMMARY: The Manufacturing Council will hold a meeting to discuss the work the Council will focus on in 2014. At the meeting, the Council will hear updates from its four subcommittees on workforce development and public perception of manufacturing; manufacturing energy policy; tax policy and export growth; and innovation, research and development. The Council will discuss current workforce development efforts by the federal government, the opportunities for increasing alternative energy efforts in manufacturing, and specific ideas for innovation improvements in manufacturing. The Council will also discuss and deliberate a letter of recommendation on corporate tax reform. A final agenda will be available on the Council's Web site one week prior to the meeting. The Council was re-chartered on April 5, 2012, to advise the Secretary of Commerce on government programs and policies that affect U.S. manufacturing and provide a means of ensuring regular contact between the U.S. Government and the manufacturing sector.

DATES: January 14, 2014, 8:30 a.m.-12:00 p.m. Eastern Standard Time (CST).

ADDRESSES: The meeting will be held at the Department of Commerce, 1401 Constitution Avenue NW., Washington, DC 20230. Due to building security, all attendees must pre-register. This meeting will be physically accessible to people with disabilities. Seating is limited and will be on a first come, first served basis. Requests for sign language interpretation, other auxiliary aids, or pre-registration, should be submitted no later than January 6, 2014, to Elizabeth Emanuel, the Manufacturing Council, Room 4043, 1401 Constitution Avenue NW., Washington, DC 20230, telephone 202-482-1369, elizabeth.emanuel@trade.gov. Last minute requests will be accepted, but may be impossible to fill.

FOR FURTHER INFORMATION CONTACT: Elizabeth Emanuel, the Manufacturing Council, Room 4043, 1401 Constitution Avenue NW., Washington, DC 20230, telephone: 202-482-1369, email: elizabeth.emanuel@trade.gov.

SUPPLEMENTARY INFORMATION: A limited amount of time, from 11:45 a.m.-12:00 p.m., will be made available for pertinent brief oral comments from members of the public attending the meeting. To accommodate as many speakers as possible, the time for public comments will be limited to 5 minutes per person. Individuals wishing to reserve speaking time during the meeting must contact Ms. Emanuel and submit a brief statement of the general nature of the comments, as well as the name and address of the proposed speaker, by 5:00 p.m. EST on Monday, January 6, 2014. If the number of registrants requesting to make statements is greater than can be reasonably accommodated during the meeting, the International Trade Administration may conduct a lottery to determine the speakers. Speakers are requested to bring at least 25 copies of their oral comments for distribution to the members of the Manufacturing Council and to the public at the meeting. Any member of the public may submit pertinent written comments concerning the Manufacturing Council's affairs at any time before or after the meeting. Comments may be submitted to Elizabeth Emanuel, the Manufacturing Council, Room 4043, 1401 Constitution Avenue NW., Washington, DC 20230, telephone: 202-482-1369, email: elizabeth.emanuel@trade.gov. To be considered during the meeting, written comments must be received by 5:00 p.m. EST on Monday, January 6, 2014, to ensure transmission to the Manufacturing Council prior to the meeting. Comments received after that date will be distributed to the members but may not be considered at the meeting.

Copies of Council meeting minutes will be available within 90 days of the meeting.

Dated: December 18, 2013.
Elizabeth Emanuel,
Executive Secretary, The Manufacturing Council.

[FR Doc. 2013-30498 Filed 12-20-13; 8:45 am]

BILLING CODE 3510-DR-P